DEPARTMENT OF THE INTERIOR

Bureau of Land Management

[CA-310-1820-AE]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Wednesday and Thursday, Jan. 29 and 30, in the Conference Room of the Bureau of Land Management's Arcata Field Office, 1695 Heindon Road, Arcata, California. On Jan. 29, the meeting convenes at 10 a.m for a field trip to public lands managed by the BLM Arcata Field Office. Members of the public are welcome. They must provide their own transportation and lunch. On Jan. 30, the meeting begins at 8 a.m. Time for public comments has been set aside for 1 p.m. on Jan. 30.

FOR FURTHER INFORMATION CONTACT: Rich Burns, BLM Ukiah field manager, 2550 North State Street, Ukiah, CA, (707) 468-4000; or BLM Public Affairs Officer Joseph J. Fontana, telephone (530) 252-5332.

SUPPLEMENTARY INFORMATION: The 12-member council advises the Secretary of the Interior, through the BLM, on a variety of planning and management issues associated with public land management in Northwest California. At this meeting, agenda topics will include discussion about a management plan update for the King Range National Conservation Area, and work planning for the coming year. The council will also hear status reports from the managers of the BLM's Arcata, Ukiah and Redding field offices.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: December 10, 2002.
Joseph J. Fontana,
Public Affairs Officer.

[FR Doc. 02-31747 Filed 12-17-02; 8:45 am]

BILLING CODE 4310-40-P